DEPARTMENT OF TRANSPORTATION

Federal Aviation Administration

14 CFR Part 39

[Docket No. 2000-NM-331-AD]

RIN 2120-AA64

Airworthiness Directives; Boeing Model 747 Series Airplanes

AGENCY: Federal Aviation Administration, DOT.

ACTION: Notice of proposed rulemaking (NPRM).

SUMMARY: This document proposes the supersedure of an existing airworthiness directive (AD), applicable to all Boeing Model 747 series airplanes, that currently requires repetitive inspections to detect cracking of the forward and aft inner chords and the splice fitting of the forward inner chord of the station 2598 bulkhead, and repair, if necessary. This proposal would add repetitive inspections of an expanded inspection area, which would end the inspections specified in the existing AD. This proposal also would limit the applicability of the existing AD. This proposal is prompted by reports indicating fatigue cracking was found on airplanes that had accumulated fewer total flight cycles than the threshold specified in the existing AD. The actions specified by the proposed AD are intended to detect and correct fatigue cracking of the forward and aft inner chords, the frame support, and the splice fitting of the forward inner chord of the upper corner of the station 2598 bulkhead, which could result in reduced structural capability of the bulkhead and the inability of the structure to carry horizontal stabilizer flight loads.

DATES: Comments must be received by June 4, 2001.

ADDRESSES: Submit comments in triplicate to the Federal Aviation Administration (FAA), Transport Airplane Directorate, ANM-114, Attention: Rules Docket No. 2000-NM-331-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-nprmcomment@faa.gov. Comments sent via fax or the Internet must contain “Docket No. 2000-NM-331-AD” in the subject line and need not be submitted in triplicate. Comments sent via the Internet as attached electronic files must be formatted in Microsoft Word 97 for Windows or ASCII text.

The service information referenced in the proposed rule may be obtained from Boeing Commercial Airplane Group, P.O. Box 3707, Seattle, Washington 98124-2207. This information may be examined at the FAA, Transport Airplane Directorate, 1601 Lind Avenue, SW., Renton, Washington.

FOR FURTHER INFORMATION CONTACT: Rick Kawaguchi, Aerospace Engineer, Airframe Branch, ANM-120S, FAA, Seattle Aircraft Certification Office, 1601 Lind Avenue, SW., Renton, Washington 98055-4056; telephone (425) 227-1153; fax (425) 227-1181.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2000-NM-331-AD.” The postcard will be date stamped and returned to the commenter.

Availability of NPRMs

Any person may obtain a copy of this NPRM by submitting a request to the FAA, Transport Airplane Directorate, ANM-114, Attention: Rules Docket No. 2000-NM-331-AD, 1601 Lind Avenue, SW., Renton, Washington 98055-4056.

Discussion

On April 19, 2000, the FAA issued AD 2000-08-21, amendment 39-11707 (65 FR 25281, May 1, 2000), applicable to all Boeing Model 747 series airplanes, to require repetitive inspections to detect cracking of the forward and aft inner chords and the splice fitting of the forward inner chord of the station 2598 bulkhead, and repair, if necessary. That action was prompted by reports of fatigue cracking found in those areas. The requirements of that AD are intended to detect and correct such cracking, which could result in reduced structural capability of the bulkhead and the inability of the structure to carry horizontal stabilizer flight loads.

Actions Since Issuance of Previous Rule

Since the issuance of AD 2000-08-21, the FAA has received reports indicating the detection of fatigue cracking on certain Boeing Model 747 series airplanes. Investigation revealed that on an airplane having 7,325 total flight cycles, a 2.8-inch-long crack was found on the inner chord of the station 2598 bulkhead; on another airplane having 5,845 total flight cycles, a 2.1-inch-long crack was found in the same area. Cracks also have been found on the frame support of the station 2598 bulkhead, which was not included in the inspection area specified in the existing AD.

Issuance of New Service Information

The FAA has reviewed and approved Boeing Alert Service Bulletin 747-53A2427, Revision 2, dated October 5, 2000, which describes procedures for initial and repetitive surface high frequency eddy current (HFEC) inspections of the forward and aft inner chords, the frame support, and the splice fitting of the forward inner chord of the upper corner of the station 2598 bulkhead to detect cracking. The repetitive HFEC inspections of an expanded area eliminate the need for the inspections required by the existing AD. The compliance time for doing the new initial inspection is reduced from the compliance time for doing the initial inspection that is specified in Boeing Alert Service Bulletin 747-53A2427, Revision 1, dated October 28, 1999 (recommended as the appropriate source of service information for accomplishment of the actions specified in the existing AD); and the new repetitive inspections specified in Revision 2 of the service bulletin are to be accomplished more frequently than the repetitive inspections specified in Revision 1 of the service bulletin.

Explanation of Requirements of Proposed Rule

Since an unsafe condition has been identified that is likely to exist or develop on other products of this same type design, the proposed AD would supersede AD 2000-08-21 to continue to require repetitive inspections to detect cracking of the forward and aft inner chords and the splice fitting of the forward inner chord of the station 2598 bulkhead, and repair, if necessary. This proposal would add repetitive surface HFEC inspections of the forward and aft inner chords, the frame support, and the splice fitting, to find cracks, and repair, if necessary. Doing the new HFEC inspections would end the inspections specified in the existing AD. The actions would be required to be accomplished in accordance with the service bulletin described previously, except as discussed below.

Differences Between Proposed Rule and Service Bulletin

Operators should note the following:

The service bulletin specifies that the manufacturer may be contacted for disposition of certain repair conditions, but this proposed AD would require the repair of those conditions to be accomplished per a method approved by the FAA, or per data meeting the type certification basis of the airplane approved by a Boeing Company Designated Engineering Representative who has been authorized by the FAA to make such findings.

The service bulletin specifies the effectivity as line numbers 1 through 1241 inclusive, due to incorporation of a production change (cold working certain fastener holes of the station 2598 bulkhead) on airplanes manufactured after line number 1241. Since issuance of the service bulletin, the manufacturer has determined that the chords with the cold-worked fastener holes also are susceptible to fatigue cracking. Due to this determination, the applicability in this proposed AD includes line numbers 1 through 1307 inclusive.

For airplanes having line numbers 1242 through 1307 inclusive, one option for the compliance time for doing the initial inspection would be before the accumulation of 16,000 total flight cycles. The service bulletin specifies before the accumulation of 6,000 total flight cycles.

Interim Action

This is interim action. The manufacturer has advised that it currently is developing a modification that will positively address the unsafe condition addressed by this AD. Once this modification is developed, approved, and available, the FAA may consider further rulemaking.

Cost Impact

There are approximately 1,115 airplanes of the affected design in the worldwide fleet. The FAA estimates that 258 airplanes of U.S. registry would be affected by this proposed AD.

The HFEC inspection that currently is required by AD 2000-08-21 takes approximately 2 work hours per airplane to accomplish, at an average labor rate of $60 per work hour. Based on these figures, the cost impact of this inspection is estimated to be $120 per airplane.

The detailed visual inspection that currently is required by AD 2000-08-21 takes approximately 2 work hours per airplane to accomplish, at an average labor rate of $60 per work hour. Based on these figures, the cost impact of this inspection is estimated to be $120 per airplane, per inspection cycle.

The HFEC inspections that are proposed in this AD action would take approximately 2 work hours per airplane to accomplish, at an average labor rate of $60 per work hour. Based on these figures, the cost impact of the proposed inspection is estimated to be $120 per airplane, per inspection cycle.

The cost impact figures discussed above are based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11707 (65 FR 25281, May 1, 2000), and by adding a new airworthiness directive (AD), to read as follows:

Boeing: Docket 2000-NM-331-AD. Supersedes AD 2000-08-21, Amendment 39-11707.

Applicability: Model 747 series airplanes, line numbers 1 through 1307 inclusive, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (g)(1) of this AD. The request should include an assessment of the effect of the modification, alteration, or repair on the unsafe condition addressed by this AD; and, if the unsafe condition has not been eliminated, the request should include specific proposed actions to address it.

Compliance: Required as indicated, unless accomplished previously.

To detect and correct cracking of the forward and aft inner chords, the frame support, and the splice fitting of the forward inner chord of the upper corner of the station 2598 bulkhead, which could result in reduced structural capability of the bulkhead and the inability of the structure to carry horizontal stabilizer flight loads, accomplish the following:

Restatement of Requirements of AD 2000-08-21

Initial Inspection

(a) Prior to the accumulation of 13,000 total flight cycles, or within 1,000 flight cycles after June 5, 2000 (the effective date of AD 2000-08-21, amendment 39-11707), whichever occurs later: Accomplish the requirements specified in paragraphs (a)(1) and (a)(2) of this AD.

(1) Perform a high frequency eddy current inspection (HFEC) to detect cracking of the forward and aft inner chords of the station 2598 bulkhead, in accordance with Boeing Alert Service Bulletin 747-53A2427, dated December 17, 1998; or in accordance with Figure 2, Steps 1 and 2, of Boeing Alert Service Bulletin 747-53A2427, Revision 1, dated October 28, 1999.

(2) Perform an HFEC inspection to detect cracking of the splice fitting along the upper and lower attachment to the forward inner chord of the station 2598 bulkhead, as shown in Figure 2, Detail A, of Boeing Alert Service Bulletin 747-53A2427, dated December 17, 1998; or in accordance with Figure 2, Step 3, of Boeing Alert Service Bulletin 747-53A2427, Revision 1, dated October 28, 1999.

Note 2: Operators should note that, although the splice fitting is NOT highlighted in Figure 2, Detail A, of Boeing Alert Service Bulletin 747-53A2427, dated December 17, 1998, as it is in Figure 2 of Boeing Alert Service Bulletin 747-53A2427, Revision 1, dated October 28, 1999, the inspection required by paragraph (a)(2) of this AD must still be accomplished.

Repetitive Inspections

(b) Within 3,000 flight cycles after accomplishment of the inspections required by paragraph (a) of this AD: Accomplish the inspections specified in paragraphs (b)(1) and (b)(2) of this AD. Repeat the inspections thereafter at intervals not to exceed 3,000 flight cycles.

(1) Perform a detailed visual inspection to detect cracking of the forward and aft inner chords of the station 2598 bulkhead, in accordance with Boeing Alert Service Bulletin 747-53A2427, dated December 17, 1998; or in accordance with Figure 3, Steps 1 and 2, of Boeing Alert Service Bulletin 747-53A2427, Revision 1, dated October 28, 1999.

Note 3: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(2) Perform a detailed visual inspection to detect cracking of the splice fitting along the upper and lower attachment to the forward inner chord of the station 2598 bulkhead, as shown in Figure 3, Detail A, of Boeing Alert Service Bulletin 747-53A2427, dated December 17, 1998; or in accordance with Figure 3, Step 3, of Boeing Alert Service Bulletin 747-53A2427, Revision 1, dated October 28, 1999.

Note 4: Operators should note that, although the splice fitting is NOT highlighted in Figure 3, Detail A, of Boeing Alert Service Bulletin 747-53A2427, dated December 17, 1998, as it is in Figure 3 of Boeing Alert Service Bulletin 747-53A2427, Revision 1, dated October 28, 1999, the inspections required by paragraph (b)(2) of this AD must still be accomplished.

Repair

(c) If any cracking is detected during the inspections required by paragraph (a)(1) or (b)(1) of this AD, prior to further flight, repair in accordance with Boeing Alert Service Bulletin 747-53A2427, dated December 17, 1998, Revision 1, dated October 28, 1999, or Revision 2, dated October 5, 2000; except as provided by paragraph (d) of this AD.

(d) If any cracking is detected during the inspections required by paragraph (a)(2) or (b)(2) of this AD, or the alert service bulletin specifies that the manufacturer may be contacted for disposition of certain repair conditions, prior to further flight, repair in accordance with a method approved by the Manager, Seattle Aircraft Certification Office (ACO); or in accordance with data meeting the type certification basis of the airplane approved by a Boeing Company Designated Engineering Representative (DER) who has been authorized by the Manager, Seattle ACO, to make such findings. For a repair method to be approved by the Manager, Seattle ACO, as required by this paragraph, the approval letter must specifically reference this AD.

New Requirements of This AD

Repetitive Inspections

(e) Do a surface HFEC inspection of the forward and aft inner chords, the frame support, and the splice fitting of the forward inner chord of the upper corner of the station 2598 bulkhead to find cracking, in accordance with Boeing Alert Service Bulletin 747-53A2427, Revision 2, dated October 5, 2000; at the latest of the times specified in paragraphs (e)(1) and (e)(2) of this AD, as applicable. Repeat the inspection after that at intervals not to exceed 1,500 flight cycles. Doing these inspections ends the inspections required by paragraphs (a) and (b) of this AD.

(1) For airplanes having line numbers 1 through 1241 inclusive:

(i) Before the accumulation of 6,000 total flight cycles.

(ii) Within 500 flight cycles after the effective date of this AD.

(iii) If the inspections specified in paragraph (a) or (b) of this AD were done before the effective date of this AD: Within 1,500 flight cycles after accomplishment of the last inspection required by paragraph (a) or (b) of this AD, as applicable.

(2) For airplanes having line numbers 1242 through 1307 inclusive:

(i) Before the accumulation of 16,000 total flight cycles.

(ii) Within 500 flight cycles after the effective date of this AD.

(iii) If the inspections specified in paragraph (a) or (b) of this AD were done before the effective date of this AD: Within 1,500 flight cycles after accomplishment of the last inspection required by paragraph (a) or (b) of this AD, as applicable.

Repair

(f) If any cracking is found during the inspections required by paragraph (e) of this AD, before further flight, repair in accordance with Boeing Alert Service Bulletin 747-53A2427, Revision 2, dated October 5, 2000; except where the alert service bulletin specifies that the manufacturer may be contacted for disposition of certain repair conditions, before further flight, repair in accordance with a method approved by the Manager, Seattle ACO; or in accordance with data meeting the type certification basis of the airplane approved by a Boeing Company DER who has been authorized by the Manager, Seattle ACO, to make such findings. For a repair method to be approved by the Manager, Seattle ACO, as required by this paragraph, the approval letter must specifically reference this AD.

Alternative Methods of Compliance

(g)(1) An alternative method of compliance or adjustment of the compliance time that provides an acceptable level of safety may be used if approved by the Manager, Seattle ACO. Operators shall submit their requests through an appropriate FAA Principal Maintenance Inspector, who may add comments and then send it to the Manager, Seattle ACO.

(2) Alternative methods of compliance, approved previously per AD 2000-08-21, amendment 39-11707, are approved as alternative methods of compliance with paragraphs (c) and (d) of this AD.

Note 5: Information concerning the existence of approved alternative methods of compliance with this AD, if any, may be obtained from the Seattle ACO.

Special Flight Permits

(h) Special flight permits may be issued in accordance with sections 21.197 and 21.199 of the Federal Aviation Regulations (14 CFR 21.197 and 21.199) to operate the airplane to a location where the requirements of this AD can be accomplished.

Issued in Renton, Washington, on April 11, 2001.
Donald L. Riggin,
Acting Manager, Transport Airplane Directorate, Aircraft Certification Service.

[FR Doc. 01-9669 Filed 4-18-01; 8:45 am]

BILLING CODE 4910-13-P